Title 3—

The President

Proclamation 10130 of December 31, 2020

National Slavery and Human Trafficking Prevention Month, 2021

By the President of the United States of America

A Proclamation

Human trafficking is a horrific assault on human dignity that affects people in the United States and around the world. It tears apart communities, fuels criminal activity, and threatens the national security of the United States. During National Slavery and Human Trafficking Prevention Month, we reaffirm our commitment to eradicate this abhorrent evil, to support victims and survivors, and to hold traffickers accountable for their heinous crimes.

Tragically, through force, fraud, and coercion, human traffickers deprive millions of victims of their unalienable rights to life, liberty, and the pursuit of happiness. Often referred to as “modern slavery,” this intolerable blight on society involves exploitation for labor or sex and affects people of all ages, genders, races, religions, and nationalities. As the United States continues to lead the global fight against human trafficking, we must remain relentless in our resolve to dismantle this illicit and immoral enterprise in our cities, suburbs, rural communities, Tribal lands, and transportation networks.

My Administration has prioritized ending human trafficking since its earliest days. As one of my first acts as President, I instructed Federal agencies to do what was necessary to bring human traffickers to justice and assist survivors on their road to recovery. Since then, United States Immigration and Customs Enforcement, along with other Federal agencies, has aggressively pursued these criminals, dismantling the financial infrastructure of their networks and arresting over 5,000 human traffickers. In 2019 alone, Federal law enforcement agencies initiated more than 1,600 new investigations into human traffickers and the Department of Justice's (DOJ) human trafficking task forces opened more than 2,500 new cases on the frontlines. At my direction, the Department of Homeland Security (DHS) launched its new Center for Countering Human Trafficking, which utilizes personnel from 16 DHS components, including special agents, victim support specialists, and intelligence research specialists, to focus on disrupting and dismantling trafficking organizations and providing support and protection to victims.

A year ago, I was proud to host the White House Summit on Human Trafficking, honoring the 20th anniversary of the Trafficking Victims Protection Act of 2000 (TVPA). During this historic event, I signed an Executive Order on Combating Human Trafficking and Online Child Exploitation in the United States. Through this order, my Administration established the first-ever White House position focused solely on combating human trafficking. Last year, I also released a comprehensive National Action Plan to Combat Human Trafficking (NAP), built around the “three pillars” of the TVPA: prevention, protection, and prosecution. The NAP also includes a fourth pillar which recognizes the invaluable benefit of implementing collaborative and cooperative efforts that crosscut all three pillars and involve a multitude of stakeholders and professionals from various disciplines and sectors. Using this strategy, the United States Government will employ a whole-of-government approach to improve our capabilities and build on existing momentum in our fight against human trafficking.

We remain focused on ensuring that survivors of these horrific crimes receive the care and support they need and deserve. My Administration is empowering and funding faith-based and community organizations to provide survivors with vital services, including medical and counseling services, safety planning, educational opportunities, and vocational training. Further, my Administration has doubled the amount of DOJ funding to combat human trafficking compared to the previous administration and funded the largest package of DOJ grants to fight these crimes in American history. I am proud that these grants included the first-ever funding for safe housing opportunities for survivors nationwide.

Despite the challenges posed by the pandemic this year, my Administration has been unwavering in its efforts to stop this scourge domestically and around the world. The DOJ and the Department of Health and Human Services engaged with State, local, Tribal, and territorial governments and nongovernmental organizations to understand the impact of coronavirus on human trafficking and published resource guides for those in the fight on how to operate and provide services during the pandemic. The Department of State also launched a year-long competition for proposed projects to address the pandemic's impact on efforts to combat modern slavery. Additionally, the United States Agency for International Development adapted their approach to overseas programmatic work to ensure that survivors are able to access the critical support services they need without delay. No matter the circumstances, we will remain relentless in this work and will spare no resource in offering hope to the victims and survivors of this global atrocity.

While we have reached new milestones in this fight for freedom, we must remain steadfast in our pursuit to end the evil practice of human trafficking and slavery. This month, we restore our commitment to bringing human traffickers to justice and to preserving the dignity and worth of every person.

NOW, THEREFORE, I, DONALD J. TRUMP, President of the United States of America, by virtue of the authority vested in me by the Constitution and the laws of the United States, do proclaim January 2021 as National Slavery and Human Trafficking Prevention Month, culminating in the annual observation of National Freedom Day on February 1, 2021. I call upon industry associations, law enforcement, private businesses, faith-based and other organizations of civil society, survivors and advocates, schools, families, and all Americans to recognize our vital roles in ending all forms of modern slavery and to observe this month with appropriate programs and activities aimed at ending and preventing all forms of human trafficking.

IN WITNESS WHEREOF, I have hereunto set my hand this thirty-first day of December, in the year of our Lord two thousand twenty, and of the Independence of the United States of America the two hundred and forty-fifth.

[FR Doc. 2021-00038

Filed 1-5-21; 8:45 am]

Billing code 3295-F1-P